NUCLEAR REGULATORY COMMISSION

[Docket No. 63-001-HLW; NRC-2015-0051]

Department of Energy; Yucca Mountain, Nye County, Nevada

AGENCY: Nuclear Regulatory Commission.

ACTION: Draft supplement to environmental impact statements; availability.

SUMMARY: The U.S. Nuclear Regulatory Commission (NRC) is issuing for public comment the draft “Supplement to the U.S. Department of Energy's Environmental Impact Statement for a Geologic Repository for the Disposal of Spent Nuclear Fuel and High-Level Radioactive Waste at Yucca Mountain, Nye County, Nevada,” NUREG-2184. This supplements the U.S. Department of Energy's (DOE) 2002 Environmental Impact Statement (EIS) and its 2008 Supplemental EIS for the proposed repository in accordance with the findings and scope outlined in the NRC staff's 2008 Adoption Determination Report (ADR) for DOE's EISs. The scope of this supplement is limited to the potential environmental impacts from the proposed repository on groundwater and from surface discharges of groundwater. The NRC staff plans to hold four public meetings during the public comment period to present an overview of the supplement and to accept public comments on the draft supplement.

DATES: Submit comments on the supplement by October 20, 2015. Comments received after this date will be considered if it is practical to do so, but the NRC is able to assure consideration only for comments received on or before this date.

ADDRESSES: You may submit comments by any of the following methods:

• Federal Rulemaking Web site: Go to http://www.regulations.gov and search for Docket ID NRC-2015-0051. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Christine Pineda, Office of Nuclear Material Safety and Safeguards, U.S. Nuclear Regulatory Commission, Washington, DC 20555-0001; telephone: 301-415-6789; email: YMEIS_Supplement@nrc.gov.

SUPPLEMENTARY INFORMATION:

I. Obtaining Information and Submitting Comments

A. Obtaining Information

Please refer to Docket ID NRC-2015-0051 when contacting the NRC about the availability of information for this action. You may obtain publicly-available information related to this action by any of the following methods:

• Federal Rulemaking Web site: Go to http://www.regulations.gov and search for Docket ID NRC-2015-0051.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2015-0051 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

This supplement evaluates the potential environmental impacts on groundwater and impacts associated with the discharge of any contaminated groundwater to the ground surface due to potential releases from a geologic repository for spent nuclear fuel and high-level radioactive waste at Yucca Mountain, Nye County, Nevada. This supplements DOE's 2002 “Final Environmental Impact Statement for a Geologic Repository for the Disposal of Spent Nuclear Fuel and High-Level Radioactive Waste at Yucca Mountain, Nye County, Nevada” and 2008 “Final Supplemental Environmental Impact Statement for a Geologic Repository for the Disposal of Spent Nuclear Fuel and High-Level Radioactive Waste at Yucca Mountain, Nye County, Nevada,” in accordance with the findings and scope outlined in the NRC staff's 2008 “Adoption Determination Report for the U.S. Department of Energy's Environmental Impact Statements for the Proposed Geologic Repository at Yucca Mountain.” The ADR provides the NRC staff's conclusion as to whether it is practicable for the NRC to adopt DOE's EISs under the Nuclear Waste Policy Act of 1982, as amended. The NRC's decision on adoption of the EISs will occur after completion of the adjudication under part 2, subpart J of Title 10 of the Code of Federal Regulations (10 CFR).

The scope of this supplement is limited to those areas defined in the ADR, specifically, the potential environmental impacts from the proposed repository on groundwater and from surface discharges of groundwater. In the ADR, the NRC staff found that the analysis in DOE's EISs does not provide adequate discussion of the cumulative amounts of radiological and nonradiological contaminants that may enter the groundwater over time and how these contaminants would behave in the aquifer and surrounding environments. This supplement provides the information the NRC staff identified in its ADR as necessary. The supplement describes the affected environment with respect to the groundwater flow path for potential contaminant releases from the repository that could be transported beyond the regulatory compliance location through the alluvial aquifer in Fortymile Wash and the Amargosa Desert, and to the Furnace Creek/Middle Basin area of Death Valley. The analysis in this supplement considers both radiological and nonradiological contaminants. Using groundwater modeling, the NRC staff finds that contaminants from the repository would be captured by groundwater withdrawal along the flow path, such as the current pumping in the Amargosa Farms area, or would continue to Death Valley in the absence of such pumping. Therefore, this supplement provides a description of the flow path from the regulatory compliance location to Death Valley, the locations of current groundwater withdrawal, and locations of potential natural discharge along the groundwater flow path. The supplement evaluates the potential radiological and nonradiological environmental impacts at these groundwater and surface discharge locations over a one-million year period following repository closure, including potential impacts on the aquifer environment, soils, ecology, and public health, as well as the potential for disproportionate impacts on minority or low-income populations. In addition, this supplement assesses the potential for cumulative impacts that may be associated with other past, present, or reasonably foreseeable future actions. The NRC staff finds that all of the impacts on the resources evaluated in this supplement would be SMALL.

III. Availability of Documents

The documents identified in the following table are available to interested persons through one or more of the following methods, as indicated.

Document | Adams accession No.
NRC Staff's Draft “Supplement to the U.S. Department of Energy's Environmental Impact Statement for a Geologic Repository for the Disposal of Spent Nuclear Fuel and High-Level Radioactive Waste at Yucca Mountain, Nye County, Nevada,” NUREG-2184 | ML15223B243
NRC Staff's Adoption Determination Report | ML082420342
NRC Federal Register notice of intent to prepare a supplement to a final supplemental environmental impact statement | ML15058A595
DOE “Final Supplemental Environmental Impact Statement for a Geologic Repository for the Disposal of Spent Nuclear Fuel and High-Level Radioactive Waste at Yucca Mountain, Nye County, Nevada” | ML081750191
DOE “Final Environmental Impact Statement for a Geologic Repository for the Disposal of Spent Nuclear Fuel and High-Level Radioactive Waste at Yucca Mountain, Nye County, Nevada” | ML032690321

IV. Public Meetings

The NRC staff will hold a public conference call on August 26, 2015, from 2:00 p.m. until 3:00 p.m. Eastern Time. During this call, the NRC staff will provide information on how to submit comments on the draft supplement and answer any questions related to the public comment process. The staff will not be accepting comments on the draft supplement during this call. The teleconference number and passcode for this call will be made available on the NRC's public Web site, or you may call 301-415-6789 or email YMEIS_Supplement@nrc.gov.

In addition, the NRC staff plans to hold the following public meetings during the public comment period to present an overview of the supplement and to accept public comments on the document.

• September 3, 2015: NRC Headquarters, One White Flint North, First Floor Commission Hearing Room, 11555 Rockville Pike, Maryland 20852. This meeting will start at 3:00 p.m. Eastern Time and continue until 5:00 p.m.

• September 15, 2015: Embassy Suites Convention Center, 3600 Paradise Rd., Las Vegas, Nevada 89169. This meeting will start at 7:00 p.m. Pacific Time and continue until 9:00 p.m.

• September 17, 2015: Amargosa Community Center, 821 E. Amargosa Farm Road, Amargosa Valley, Nevada 89020. This meeting will start at 7:00 p.m. Pacific Time and continue until 9:00 p.m.

• October 15, 2015: Public meeting via conference call, from 2:00 p.m. Eastern Time until 4:00 p.m.

Additionally, at each of the meeting locations in Nevada, the NRC staff will host informal discussions during an open house for one hour prior to the meeting start time. Open houses will begin at 6:00 p.m. Pacific Time.

The public meetings will be transcribed and will include: (1) A presentation of the contents of the draft supplement; and (2) the opportunity for interested government agencies, organizations, and individuals to provide comments on the draft supplement. No oral comments will be accepted during the open house sessions prior to the public meetings in Nevada. To be considered, oral comments must be presented during the transcribed portion of the public meeting. Written comments can be submitted to the NRC staff at any time during the public meetings. Persons interested in attending or presenting oral comments at any of the public meetings are encouraged to pre-register. Persons may pre-register to attend or present oral comments by calling 301-415-6789 or by emailing YMEIS_Supplement@nrc.gov no later than 3 days prior to the meeting. To provide oral comments, members of the public may also register in person at each meeting. Individual oral comments may be limited by the time available, depending on the number of persons who register. If special equipment or accommodations are needed to attend or present information at a public meeting, the need should be brought to the NRC's attention no later than 10 days prior to the meeting to provide the NRC staff adequate notice to determine whether the request can be accommodated. To maximize public participation, the NRC headquarters meeting on September 3, 2015, will be Web-streamed via the NRC's public Web site. On the meeting date, interested persons should go to the NRC's Live Meeting Webcast page to participate: http://video.nrc.gov/. The NRC headquarters meeting will also feature a moderated teleconference line so remote attendees will have the opportunity to present oral comments. To receive the teleconference number and passcode for the September 3 meeting or for the October 6 conference call, call 301-415-6789 or email YMEIS_Supplement@nrc.gov. Meeting agendas and participation details will be available on the NRC's Public Meeting Schedule Web site at http://www.nrc.gov/publicinvolve/public-meetings/index.cfm no later than 10 days prior to the meetings.

Dated at Rockville, Maryland, this 12th day of August 2015.
For the Nuclear Regulatory Commission.
James Rubenstone,
Acting Director, Yucca Mountain Directorate, Office of Nuclear Material Safety and Safeguards.

[FR Doc. 2015-20638 Filed 8-20-15; 8:45 am]

BILLING CODE 7590-01-P